DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before May 2, 2024.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on March 6, 2024.
Donald P. Burger,
Chief, General Approvals and Permits Branch.

Special Permits Data
Application No. | Applicant | Regulation(s) affected | Nature of the special permits thereof
21727-N | United States Postal Service | 175.10(a)(18)(ii) | To authorize the transportation in commerce of not more than ten spare lithium batteries with watt-hour ratings between 100Wh and 160 Wh in carry-on luggage via passenger-carrying aircraft. (mode 5).
21728-N | RSO, Inc | 173.431(a) | To authorize the transportation in commerce of one Type A package containing a sealed source of 45 Ci of Cs-137 from Laurel, MD to Oak Ridge, TN and from Oak Ridge, TN to Andrews, TX for the purpose of disposal. (mode 1).
21729-N | SodaStream USA, Inc | 173.306(a)(1) | To authorize the transportation in commerce of carbon dioxide, compressed in cylinders with a capacity exceeding 4 fluid ounces as limited quantities. (modes 1, 2, 3).
21731-N | Inversion Space Company | 173.185(b), 173.62(c), 177.848(b) | To authorize the transportation in commerce of lithium batteries and other hazardous materials incorporated into spacecraft. (mode 1).
21732-N | Post Warehouse Corp | 173.224(b) | To authorize the one-time transportation in commerce of N,N′-dinitrosopentamethylenetetramine (self-reactive material, Type C), in concentrations that exceed those authorized in 49 CFR 173.224(b) Self-Reactive Materials Table, for the purpose of disposal. (mode 1).
21733-N | Cirkul, Inc | 171.2(k),172.202(a)(5)(iii)(B) | To authorize the transportation in commerce of certain DOT 3AL cylinders that contain carbon dioxide, with alternative hazard communication. (modes 1, 2, 3).

[FR Doc. 2024-06882 Filed 4-1-24; 8:45 am]

BILLING CODE P